DEPARTMENT OF LABOR

Bureau of Labor Statistics

Bureau of Labor Statistics Technical Advisory Committee; Notice of Meeting and Agenda

The Bureau of Labor Statistics Technical Advisory Committee will meet on Friday June 15, 2012. The meeting will be held in the Postal Square Building, 2 Massachusetts Avenue NE., Washington, DC.

The Committee provides advice and makes recommendations to the Bureau of Labor Statistics (BLS) on technical aspects of the collection and formulation of economic measures. The BLS presents issues and then draws on the expertise of Committee members representing specialized fields within the academic disciplines of economics, statistics and survey design.

The meeting will be held in rooms 1 and 2 of the Postal Square Building Conference Center. The schedule and agenda for the meeting are as follows:

8:30 a.m. Registration.

9 a.m. Opening remarks and introductions; agency updates.

9:15 a.m. Price Indexes for Foreign Inputs.

11:30 a.m. Discussion of future priorities.

11:45 a.m. Lunch.

1 p.m. Discussion of future priorities.

1:30 p.m. Current Employment Statistics Revisions.

3 p.m. Current Employment Statistics Birth/Death Model.

4:30 p.m. Approximate conclusion.

The meeting is open to the public. Any questions concerning the meeting should be directed to Lisa Fieldhouse, Bureau of Labor Statistics Technical Advisory Committee, on 202-691-5025. Individuals who require special accommodations should contact Ms. Fieldhouse at least two days prior to the meeting date.

Kimberley D. Hill,
Chief, Division of Management Systems, Bureau of Labor Statistics.

[FR Doc. 2012-11103 Filed 5-8-12; 8:45 am]

BILLING CODE P